DEPARTMENT OF LABOR

Employment and Training Administration

[TA-W-57,232]

Ingram Micro, Santa Ana, CA; Notice of Termination of Investigation

Pursuant to Section 221 of the Trade Act of 1974, as amended, an investigation was initiated on May 23, 2005 in response to a worker petition filed by a company official on behalf of workers at Ingram Micro, Santa Ana, California.

The petitioner has requested that the petition be withdrawn. Consequently, the investigation has been terminated.

Signed at Washington, DC, this 17th day of June, 2005.
Richard Church,
Certifying Officer, Division of Trade Adjustment Assistance.

[FR Doc. E5-3744 Filed 7-13-05; 8:45 am]

BILLING CODE 4510-30-P